DEPARTMENT OF TRANSPORTATION

Federal Aviation Administration

14 CFR Part 71

[Docket No. FAA-2020-0826; Airspace Docket No. 20-AEA-15]

RIN 2120-AA66

Amendment of Class E Airspace; Dubois, PA

AGENCY: Federal Aviation Administration (FAA), DOT.

ACTION: Final rule.

SUMMARY: This action amends Class E surface airspace and Class E airspace extending upward from 700 feet above the surface in Dubois, PA, due to the decommissioning of the Clarion Very High Frequency Omnidirectional Range Tactical Air Navigational System (VORTAC) and cancellation of the associated instrument approach procedure at Dubois Regional Airport. This action also updates the name of the airport, as well as the name and geographic coordinates of Penn Highlands Healthcare-Dubois Heliport. Controlled airspace is necessary for the safety and management of instrument flight rules (IFR) operations in the area.

DATES: Effective 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; Telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: John Fornito, Operations Support Group, Eastern Service Center, Federal Aviation Administration, 1701 Columbia Avenue, College Park, GA 30337; Telephone (404) 305-6364.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace in Dubois, PA, to support IFR operations in the area.

History

The FAA published a notice of prosed rulemaking in the Federal Register (85 FR 59465, September 22, 2020) for Docket No. FAA-2020-0826 to amend Class E surface airspace from a 4-mile radius to a 4.8-mile radius, and remove all extensions. Also, the FAA proposed the amendment of Class E airspace extending upward from 700 feet above the surface in Dubois, PA, from a 8.5-mile radius to a 9.2-mile radius. In addition, the FAA proposed to update the geographic coordinates and name of the airport, as well as Penn Highland Healthcare-Dubois Heliport to coincide with the FAA's aeronautical database.

Subsequent to publication, the FAA found the names of DuBois Regional Airport and Penn Highland Healthcare-DuBois Heliport required updating. The correct names are Dubois Regional Airport and Penn Highlands Healthcare-Dubois Heliport. This action makes the update.

Interested parties were invited to participate in this rulemaking effort by submitting written comments on the proposal to the FAA. One comment supporting this action was received.

Class E airspace designations are published in Paragraph 6005 of FAA Order 7400.11E, dated July 21, 2020, and effective September 15, 2020, which is incorporated by reference in 14 CFR 71.1. The Class E airspace designations listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic routes, and reporting points.

The Rule

This amendment to Title 14 Code of Federal Regulations (14 CFR) part 71 amends Class E surface airspace and Class E airspace extending upward from 700 feet above the surface at Dubois Regional Airport, (previously Du Bois-Jefferson County Airport), Dubois, PA, due to the decommissioning of the Clarion VORTAC and cancellation of the associated approach. In addition, the FAA updates the airport's name and the name and geographic coordinates of Penn Highlands Healthcare-Dubois Heliport, (previously Du Bois Regional Medical Center) to coincide with the FAA's aeronautical database.

Class E airspace designations are published in Paragraphs 6002 and 6005, respectively, of FAA Order 7400.11E, dated July 21, 2020, and effective September 15, 2020, which is incorporated by reference in 14 CFR 71.1. The Class E airspace designations listed in this document will be published subsequently in the Order.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures an air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, effective September 15, 2020, is amended as follows:

Paragraph 6002 Class E Surface Airspace.

* * * * *

AEA PA E2 Dubois, PA [Amended]

Dubois Regional Airport, PA

(Lat. 41°10′42″ N, long. 78°53′55″ W)

That airspace extending upward from the surface within a 4.8-mile radius of Dubois Regional Airport. This Class E airspace is effective during the dates and times established in advance by a Notice to Airmen. The effective date and time will thereafter be continuously published in the Chart Supplement.

Paragraph 6005 Class E Airspace Areas Extending Upward From 700 Feet or More Above the Surface of the Earth.

* * * * *

AEA PA E5 Dubois, PA [Amended]

Dubois Regional Airport, PA

(Lat. 41°10′42″ N, long. 78°53′55″ W)

Penn Highlands Healthcare-Dubois Heliport Point In Space Coordinates

(Lat. 41°06′52″ N, long. 78°46′26″ W)

That airspace extending upward from 700 feet or more above the surface within a 9.2-mile radius of Dubois Regional Airport and within a 6-mile radius of the Point In Space Coordinates serving Penn Highlands Healthcare-Dubois Heliport.

Issued in College Park, Georgia, on December 7, 2020.
Andreese C. Davis,
Manager, Airspace & Procedures Team South, Eastern Service Center, Air Traffic Organization.

[FR Doc. 2020-27244 Filed 12-10-20; 8:45 am]

BILLING CODE 4910-13-P